DEPARTMENT OF HOUSING AND URBAN DEVELOPMENT

[Docket No. FR-7054-N-01; OMB Control No. 2501-0033]

60-Day Notice of Proposed Information Collection: Promise Zones Preference Point Certification Form 50153

AGENCY: Office of Field Policy and Management, HUD.

ACTION: Notice.

SUMMARY: The U.S. Department of Housing and Urban Development (HUD) is seeking approval from the Office of Management and Budget (OMB) for the information collection described below. In accordance with the Paperwork Reduction Act, HUD is requesting comment from all interested parties on the proposed collection of information. The purpose of this notice is to allow for 60 days of public comment.

DATES: Comments Due Date: June 16, 2022.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information. Persons with hearing or speech impairments may access this number through TTY by calling the toll-free Federal Relay Service at (800) 877-8339.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Promise Zones Preference Point Certification Form.

OMB Approval Number: 2501-0033.

Type of Request: Revision.

Form Number: HUD Form 50153.

Description of the need for the information and proposed use: This collection is a revision of the Promise Zone Preference Point Certification Form (HUD Form 50153). The revisions to the form include the addition of a Paperwork Reduction Act burden statement; the addition of drop-down options to two of the information fields in the form, which will result in less typing for the applicant and fewer typos; the addition of HUD's agency name to the top of the form; and the addition of descriptions to interactive fields to ensure 508 complaince. The Promise Zone Certification Form is used by federal agencies to document that an application or proposal should receive preferences for certain competitive federal programs and technical assistance. The Certification Form should be submitted by organizations applying for federal assistance, in the specific manner described in notices, application materials and other documents, providing instructions on applying for the specific federal program from which the assistance is sought. The Certification Form should be signed by the primary contact of the Lead Organization of a designated Promise Zones community, an individual authorized to make commitments on behalf of and legally bind the Lead Organization. The Certification Form provides evidence to the federal agency administering the program that the entity or entities named in the Form are:

1. Engaged in activities, that in consultation with the Promise Zone lead organization further the purposes of the initiative;

2. Proposing activities that either directly reflect the goals of the Promise Zone or will result in the delivery of services that are consistent with the goals of Promise Zone; and

3. Committed to maintain an on-going relationship with the Promise Zone lead organization for the purposes of coordinating with other Promise Zone activities, reporting on milestones and outcomes, and collaborating with the lead organization and other Promise Zone organizations in securing additional resources and partnerships, as necessary.

HUD designated fourteen communities as urban Promise Zones between 2014 and 2016. Under the Promise Zones initiative, the federal government invests in and partners with high-poverty urban, rural, and tribal communities to create jobs, increase economic activity, improve educational opportunities, leverage private investment, and reduce violent crime. Additional information about the Promise Zones initiative can be found at https://www.hud.gov/program_offices/field_policy_mgt/fieldpolicymgtpz, and questions can be addressed to promisezone@hud.gov. The federal administrative duties pertaining to these designations shall be managed and executed by HUD for ten years from the designation dates pursuant to sections 2 and 3 of the HUD Act, 42 U.S.C. 3531-32, to assist the President in achieving maximum coordination of the various federal activities which have a major effect upon urban community, suburban, or metropolitan development; to develop and recommend the President policies for fostering orderly growth and development of the Nation's urban areas; and to exercise leadership, at the direction of the President, in coordinating federal activities affecting housing and urban development. To facilitate communication between local and federal partners, HUD proposes that Promise Zone Lead Organizations submit minimal reports and documents to support collaboration and problem solving between local and federal partners. These reports will also assist in communications and stakeholder engagement, both locally and nationally.

Respondents: Fourteen Promise Zone Lead Organizations.

Estimated Number of Respondents:

Information collection | Number of respondents | Frequency of response | Responses per annum | Burden hour per response | Annual burden hours | Hourly cost per response | Annual cost
Certification of Consistency Form HUD—50153 | 22 | 6 | 132 | 0.1 | 13.2 | $36.13 | $476.92
Total |  |  |  |  |  |  | 476.92

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

James A.Cunningham,
Acting National Director, Office of Field Policy and Management.

[FR Doc. 2022-10522 Filed 5-16-22; 8:45 am]

BILLING CODE 4210-67-P